DEPARTMENT OF THE TREASURY

Submission for OMB Review; Comment Request

October 22, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 2, 2004, to be assured of consideration.

Financial Management Service (FMS)

OMB Number: 1510-0029.

Form Number: TFS 5118.

Type of Review: Extension.

Title: Depositor's Application for Payment of Postal Savings Certificate.

Description: This form is prepared when a depositor has lost, destroyed, or misplaced his Postal Savings Certificates. Form properly completed and signed replaces unavailable certificates to support application for payment, if original certificates show up, documents prevent duplicate payments.

Respondents: Individuals or households.

Estimated Number of Respondents: 200.

Estimated Burden Hours Per Respondent: 15 minutes.

Frequency of Response: On occasion.

Estimated Total Reporting Burden: 50 hours.

Clearance Officer: Jiovannah L. Diggs, (202) 874-7662, Financial Management Service, Administrative Programs Division, Records and Information Management Program, 3700 East West Highway, Room 144, Hyattsville, MD 20782.

OMB Reviewer: Joseph F. Lackey, Jr., (202) 395-7316, Office of Management and Budget, Room 10235, New Executive Office Building,Washington, DC 20503.

Lois K. Holland,
Treasury PRA Clearance Officer.

[FR Doc. 04-24361 Filed 11-1-04; 8:45 am]

BILLING CODE 4810-35-P